DEPARTMENT OF HOMELAND SECURITY

[Docket No. DHS-2008-0055]

Homeland Security Advisory Council

AGENCY: Policy Directorate, DHS.

ACTION: Committee Management; Notice of Partially Closed Federal Advisory Committee Meeting.

SUMMARY: In the June 11, 2008, issue of the Federal Register Notice at 73 FR 33102, the Homeland Security Advisory Council (HSAC) announced that it will meet for purposes of reviewing recommendations from the Essential Technology Task Force (ETTF) on June 25, 2008, in Washington, DC, and receive briefings from Secretary Michael Chertoff and other DHS officials. The announcement stated that the meeting will be partially closed to the public. This notice supplements the original meeting notice.

DATES: The HSAC will meet June 25, 2008, from 10 a.m. to 3:30 p.m. The meeting will be closed from 10 a.m. to 11 a.m. and from 12 p.m. to 3:30 p.m.

ADDRESSES: The open portion of the meeting will be held in Salon II at the Ritz-Carlton Hotel located at 1150 22nd Street, NW., in Washington, DC.

FOR FURTHER INFORMATION CONTACT: Jennifer Myers, Homeland Security Advisory Council, (202) 447-3135, HSAC@dhs.gov. Homeland Security Advisory Council, c/o Jennifer Myers, 245 Murray Drive, SW., Building 410, Mailstop 0850, Washington, DC 20528.

SUPPLEMENTARY INFORMATION: Notice of this meeting is given under the Federal Advisory Committee Act, 5 U.S.C. App. (Pub. L. 92-463). The HSAC provides independent advice to the Secretary of the Department of Homeland Security to aide in the creation and expeditious implementation of critical and actionable policy and operational capacities across the spectrum of homeland security operations. The HSAC shall periodically report, as appropriate, to the Secretary on matters within the scope of that function. The HSAC serves as an advisory body with the goal of providing advice upon the request of the Secretary. The Federal Advisory Committee Act requires Federal Register publication 15 days prior to a meeting. The original HSAC meeting announcement was published 14 days prior to the meeting due to venue and computer problems. All known interested parties were made aware of the meetings with sufficient time for planning purposes. For agenda and other pertinent information please reference Federal Register Notice published on June 11, 2008 at 73 FR 33102.

Dated: June 16, 2008.
Jeffrey D. Stern,
Executive Director, Homeland Security Advisory Council, Department of Homeland Security.

[FR Doc. E8-13918 Filed 6-18-08; 8:45 am]

BILLING CODE 4410-10-P